DEPARTMENT OF COMMERCE

International Trade Administration

[A-570-174, A-489-853]

Certain Brake Drums From the People's Republic of China and the Republic of Türkiye: Antidumping Duty Orders

AGENCY: Enforcement and Compliance, International Trade Administration, Department of Commerce.

SUMMARY: Based on affirmative final determinations by the U.S. Department of Commerce (Commerce) and the U.S. International Trade Commission (ITC), Commerce is issuing antidumping duty (AD) orders on certain brake drums (brake drums) from the People's Republic of China (China) and the Republic of Türkiye (Türkiye).

DATES: Applicable August 12, 2025.

FOR FURTHER INFORMATION CONTACT: Samuel Frost at (202) 482-8180 (China) and Colin Thrasher at (202) 482-3004 (Türkiye), AD/CVD Operations, Office V, Enforcement and Compliance, International Trade Administration, U.S. Department of Commerce, 1401 Constitution Avenue NW, Washington, DC 20230.

SUPPLEMENTARY INFORMATION:

Background

On June 18, 2025, Commerce published in the Federal Register its affirmative final determinations in the less-than-fair-value (LTFV) investigations of brake drums from China and Türkiye in accordance with sections 735(d) and 777(i) of the Tariff Act of 1930, as amended (the Act).¹ On August 4, 2025, the ITC notified Commerce of its affirmative final determinations, pursuant to section 735(d) of the Act, that an industry in the United States is materially injured within the meaning of section 735(b)(1)(A)(i) of the Act by reason of LTFV imports of brake drums from China and Türkiye.²

¹ See Certain Brake Drums from People's Republic of China: Final Affirmative Determination of Sales at Less Than Fair Value, 90 FR 26011 (June 18, 2025), and accompanying Issues and Decision Memorandum (IDM); see also Certain Brake Drums from the Republic of Türkiye: Final Affirmative Determination of Sales at Less Than Fair Value, 90 FR 25999 (June 18, 2025), and accompanying IDM.

² See ITC's Letter, Investigation Nos. 701-TA-729-730 and 731-TA-1698-1699 (Final), dated August 4, 2024.

Scope of the Orders

The products covered by these orders are brake drums from China and Türkiye. For a complete description of the scope of these orders, see the appendix to this notice.

Antidumping Duty Orders

Based on the affirmative final determinations by the ITC that an industry in the United States is materially injured by reason of imports of brake drums from China and Türkiye sold at LTFV, in accordance with section 735(c)(2) and 736 of the Act, Commerce is issuing these AD orders. Because the ITC determined that imports of brake drums from China and Türkiye are materially injuring a U.S. industry, unliquidated entries of such merchandise entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of brake drums from China and Türkiye. With the exception of entries occurring after the expiration of the provisional measures period and before publication of the ITC's final affirmative injury determinations, as further described below, antidumping duties will be assessed on unliquidated entries of brake drums entered, or withdrawn from warehouse, for consumption, on or after January 29, 2025, the date of publication of the Preliminary Determinations.³

³ See Certain Brake Drums from the People's Republic of China: Preliminary Affirmative Determination of Sales at Less Than Fair Value, Postponement of Final Determination and Extension of Provisional Measures, 90 FR 8383 (January 29, 2025), and accompanying Preliminary Decision Memorandum (PDM); see also Certain Brake Drums from the Republic of Türkiye: Preliminary Affirmative Determination of Sales at Less Than Fair Value, Postponement of Final Determination, and Extension of Provisional Measures, 90 FR 8377 (January 29, 2024), and accompanying PDM (collectively, Preliminary Determinations).

Continuation of Suspension of Liquidation and Cash Deposits

Except as noted in the “Provisional Measures” section of this notice, in accordance with section 736 of the Act, Commerce intends to instruct CBP to continue to suspend liquidation on all relevant entries of brake drums from China and Türkiye, effective on the date of publication of the ITC's final affirmative injury determination in the Federal Register. These instructions suspending liquidation will remain in effect until further notice.

Commerce also intends to instruct CBP to require cash deposits equal to the estimated weighted-average dumping margins, with offsets for export subsidies where appropriate, as indicated in the tables below. Accordingly, effective on the date of publication in the Federal Register of the ITC final injury determination in the Federal Register, CBP will suspend the liquidation of entries of subject merchandise, and require, at the same time that importers would normally deposit estimated duties on the merchandise, a cash deposit equal to the rates listed below. The relevant China-wide entity and all-others rates apply to all producers or exporters not specifically listed, as appropriate.

Estimated Weighted-Average Dumping Margins

The estimated weighted-average dumping margins are as follows:

China
Producer | Exporter | Weighted-average dumping margin (percent) | Cash deposit rate (adjusted for export subsidy offset(s) (percent)
Shandong ConMet Mechanical Co., Ltd | Shandong ConMet Mechanical Co., Ltd | 77.14 | 77.14
Liaoning Hechuang CV Parts MFG Co | Liaoning Hechuang CV Parts MFG Co | 77.14 | 77.14
Hebei OE Auto Spare Parts Co., Ltd | Ningbo Qingchen International Trade Co., Ltd | 77.14 | 77.14
Longyao County Yiheng Auto Parts Co., Ltd | Qingdao Jasmine International Trade Co., Ltd | 77.14 | 77.14
Shandong Lingang Nonferrous Metals Co., Ltd | Qingdao Tordon Brake Co., Ltd | 77.14 | 77.14
Qiqihar Beimo Auto Parts Manufacturing Co., Ltd | Qiqihar Beimo Auto Parts Manufacturing Co., Ltd | 77.14 | 77.14
Shandong Lingang Nonferrous Metals Co., Ltd | Shandong Haoxin Co., Ltd | 77.14 | 77.14
Shandong Hongma Engineering Machinery Co., Ltd | Shandong Hongma Engineering Machinery Co., Ltd | 77.14 | 77.14
Longyao Gucheng Automobile Parts Factory | Shandong North Autotech Co., Ltd | 77.14 | 77.14
Shandong Longji Machinery Co., Ltd | Shanghai Winsun Auto Parts Co., Ltd | 77.14 | 77.14
China-wide Entity |  | * 160.79 | 150.25
* Rate based on facts available with adverse inferences.

Turkiye:
Producer or exporter | Weighted-average dumping margin (percent) | Cash deposit rate (adjusted for export subsidy offset) (percent)
EKU Fren ve Dok. San. A.S | 15.22 | 12.86
Akkus Dokum San. Ve Tic. Ltd. Sti | 149.29 | 146.93
Buyuk Eker Bijon Sanayi Ve Ticaret | 149.29 | 146.93
Genk Otomotiv San. Dis Tic. Ltd. Sti | 149.29 | 146.93
All Others | 15.22 | 12.86
Rate based on facts available with adverse inferences.

Provisional Measures

Section 733(d) of the Act states that instructions issued under section 733(d)(1) and (2) of the Act pursuant to an affirmative preliminary determination may not remain in effect for more than four months, except where exporters representing a significant proportion of exports of the subject merchandise request that Commerce extend the four-month period to no more than six months. At the request of exporters that account for a significant proportion of exports of brake drums from China and Turkiye, Commerce extended the four-month period to six months in these investigations. Commerce published the Preliminary Determinations on January 29, 2025.⁴

⁴ See Preliminary Determinations.

The extended provisional measures period, beginning on the date of publication of the Preliminary Determinations, ended on July 28, 2025. Therefore, in accordance with section 733(d) of the Act, Commerce intends to instruct CBP to terminate the suspension of liquidation and to liquidate, without regard to antidumping duties, certain unliquidated entries of brake drums from China and Turkiye entered, or withdrawn from warehouse, for consumption after July 27, 2025, the final day on which the provisional measures were in effect, through the day preceding the date of publication of the ITC's final determination in the Federal Register. Suspension of liquidation and the collection of cash deposits will resume on the date of publication of the ITC final injury determinations in the Federal Register.

Establishment of the Annual Inquiry Service List

On September 20, 2021, Commerce published the final rule titled “Regulations to Improve Administration and Enforcement of Antidumping and Countervailing Duty Laws” in the Federal Register.⁵ On September 27, 2021, Commerce also published the notice titled “Scope Ruling Application; Annual Inquiry Service List; and Informational Sessions” in the Federal Register.⁶ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.⁷

⁵ See Regulations to Improve Administration and Enforcement of Antidumping and Countervailing Duty Laws, 86 FR 52300 (September 20, 2021) (Final Rule).

⁶ See Scope Ruling Application; Annual Inquiry Service List; and Informational Sessions, 86 FR 53205 (September 27, 2021) (Procedural Guidance).

⁷ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the order. Each annual inquiry service list will be saved in ACCESS, under each case number, and under a specific segment type called “AISL-Annual Inquiry Service List.” ⁸

⁸ This segment will be combined with the ACCESS Segment Specific Information (SSI) field, which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both the petitioners and foreign governments will automatically be placed on the annual inquiry service list in the years that follow.” ⁹ Accordingly, as stated above, the petitioner and the Governments of China and Turkiye should submit their initial entry of appearance after publication of this notice in order to appear in the first annual inquiry service list for those orders for which they qualify as an interested party. Pursuant to 19 CFR 351.225(n)(3), the petitioner and the Governments of China and Turkiye will not need to resubmit their entries of appearance each year to continue to be included on the annual inquiry service list. However, the petitioner and the Governments of China and Turkiye are responsible for making amendments to their entries of appearance during the annual update to the annual inquiry service list in accordance with the procedures described above.

⁹ See Final Rule, 86 FR at 52335.

Notifications to Interested Parties

This notice constitutes the AD orders with respect to brake drums from China and Turkiye pursuant to section 736(a) of the Act. Interested parties can find a list of AD and countervailing duty orders currently in effect at https://www.trade.gov/data-visualization/adcvd-proceedings.

These AD orders are published in accordance with section 736(a) of the Act and 19 CFR 351.211(b).

Dated: August 6, 2025.
Abdelali Elouaradia,
Deputy Assistant Secretary for Enforcement and Compliance.

Appendix

Scope of the Orders

The merchandise covered by these orders is certain brake drums made of gray cast iron, whether finished or unfinished, with an actual or nominal inside diameter of 14.75 inches or more but not over 16.6 inches, weighing more than 50 pounds. Unfinished brake drums are those which have undergone some turning or machining but are not ready for installation. Subject brake drums are included within the scope whether imported individually or with non-subject merchandise (for example, a hub), whether assembled or unassembled, or if joined with non-subject merchandise. When a subject drum is imported together with non-subject merchandise, such as, but not limited to, a drum-hub assembly, only the subject drum is covered by the scope.

Subject merchandise also includes finished and unfinished brake drums that are further processed in a third country or in the United States, including, but not limited to, assembly or any other processing that would not otherwise remove the merchandise from the scope of these orders if performed in the country of manufacture of the subject brake drums. The inclusion, attachment, joining, or assembly of non-subject merchandise with subject drums either in the country of manufacture of the subject drum or in a third country does not remove the subject drum from the scope. Specifically excluded is merchandise covered by the scope of the antidumping and countervailing duty orders on certain chassis and subassemblies thereof from the People's Republic of China. See Certain Chassis and Subassemblies Thereof from the People's Republic of China: Antidumping Duty Order, 86 FR 36093 (July 8, 2021) and Certain Chassis and Subassemblies Thereof from the People's Republic of China: Countervailing Duty Order and Amended Final Affirmative Countervailing Duty Determination, 86 FR 24844 (May 10, 2021).

The scope also excludes composite brake drums that contain more than 38 percent steel by weight.

The merchandise covered by these orders is classifiable under Harmonized Tariff Schedule of the United States (HTSUS) subheading 8708.30.5020. The merchandise covered by these orders may be classifiable under HTSUS subheading 8708.30.5090 when entered as part of an assembly. Subject merchandise may also enter under HTSUS subheading 8716.90.5060, 8704.10, 8704.23.01, 8704.32.01, 8704.43.00, 8704.52.00, 8704.60.00, 8708.50.61, 8708.50.6500, 8716.90.5010, 8716.31.00, 8716.39.00, 8716.40.00. Although the HTSUS subheadings are provided for convenience and customs purposes, the written description of the merchandise covered by these orders is dispositive.

[FR Doc. 2025-15248 Filed 8-11-25; 8:45 am]

BILLING CODE 3510-DS-P